ENVIRONMENTAL PROTECTION AGENCY

[FRL-7879-2]

Prevention of Significant Deterioration of Air Quality (PSD) Final Determinations

AGENCY: Environmental Protection Agency.

ACTION: Notice of final actions.

SUMMARY: The purpose of this notice is to announce that between March 1, 1999, and November 30, 2004, the Region 2 Office of the U.S. Environmental Protection Agency (EPA), issued 9 final determinations, the New Jersey Department of Environmental Protection (NJDEP) issued 12 final determinations and the New York State Department of Environmental Conservation (NYSDEC) issued 13 final determinations pursuant to the Prevention of Significant Deterioration of Air Quality (PSD) regulations codified at 40 CFR 52.21.

DATES: The effective dates for the above determinations are delineated in the chart at the end of this notice (see SUPPLEMENTARY INFORMATION).

FOR FURTHER INFORMATION CONTACT: Mr. Frank Jon, Environmental Engineer of the Permitting Section, Air Programs Branch, Division of Environmental Planning and Protection, U.S. Environmental Protection Agency, Region 2 Office, 290 Broadway, 25th Floor, New York, New York, 10007-1866, at (212) 637-4085.

SUPPLEMENTARY INFORMATION: Pursuant to the PSD regulations, the Region 2 Office of the USEPA, the NJDEP, and the NYSDEC have made final PSD determinations relative to the facilities listed below:

Name | Location | Project | Agency | Final action | Date
Athens Generating Plant | Athens, NY | 3 Westinghouse 501G turbines, 3 heat recovery steam generators, 3 steam turbines, and associated facilities. The facility is rated at 1080 MW | NYSDEC | New PSD Permit | June 12, 2000.
Virgin Islands Water and Power Authority—Units 16, 17, 19 and 20 | St. Croix, VI | Consolidation of permits for Units 10, 11, 12, 14, 16, 17, 19 and 20. Various permit revisions for PSD-affected units 16, 17, 19, and 20 | EPA | PSD Permit Modification | November 27, 2000.
Virgin Islands Water and Power Authority—Unit 22 at the Krum Bay Facility | St. Thomas, VI | A new 24 MW simple cycle oil-fired gas turbine. This United Technologies FT8-1 Power PAC gas turbine will burn No. 2 fuel oil with a maximum sulfur content of 0.2% sulfur by weight | EPA | New PSD Permit | January 3, 2001.
Cogen Technologies—Linden Generating Plant | Linden, NJ | Allow VOC emission increases and add power augmentation mode | NJDEP | PSD Permit Modification | May 6, 2001.
East River Repowering Project | New York, NY | Two combustion turbine GE 7FA generators, two heat recovery steam generators. The facility is rated at 360 MW | NYSDEC | New PSD Permit | July 18, 2001.
Ravenswood Cogeneration Project | Long Island City, NY | A 250 MW cogeneration facility | NYSDEC | New PSD Permit | August 31, 2001.
Consolidated Edison Development—Ocean Peaking Power | Lakewood, NJ | Addition of three new simple-cycle turbines. Each GE 7FA turbine has a 174.2 MW capacity | NJDEP | PSD Permit Modification | September 10, 2001.
NYC Department of Sanitation—Fresh Kills Landfill Flares | Staten Island, NY | Installation of flares at the Fresh Kills Landfill | NYSDEC | New PSD Permit | September 17, 2001.
AES Red Oak LLC | Sayreville, NJ | Addition of one 120 MMBTU/hr boiler, one 16 MMBTU/hr fuel gas heater, and one 49 MMBTU/hr emergency generator | NJDEP | PSD Permit Modification | October 24, 2001.
AES Puerto Rico, L.P. | Guayama, PR | The existing PSD permit was modified to correct the ppm values in the permit. The worst case ppm values did not occur simultaneously with the worst-case lb/hour values, as previously thought. There would be no increases in the lb/hr, lb/MMBTU, permitted values | EPA | PSD Permit Administrative Change | October 29, 2001.
Astoria Energy, LLC | Astoria, NY | Two GE Frame 7F series combustion turbines, two heat recovery steam generators and one steam turbine. The facility is rated at 1000 MW | NYSDEC | New PSD Permit | October 31, 2001.
NYC Department of Sanitation—Fresh Kills Landfill Flares | Staten Island, NY | Six landfill gas flares with a design capacity of 5,000 standard cubic feet/min per flare | NYSDEC | PSD Permit Modification | November 2, 2001.
Mantua Creek Generating Project | West Dept Ford Township, NJ | Permit was modified to include three GE 7FB turbines instead of ABB. This facility can produce a maximum power of 911 MW with the duct burners on | NJDEP | PSD Permit Modification | November 15, 2001.
Bethlehem Energy Center | Glenmont, NY | Three combined-cycle units with a nominal rating of 750 MW | NYSDEC | New PSD Permit | February 13, 2002.
Poletti Station | Astoria, NY | Two GE Frame 7FA combustion turbines, two unfired heat recovery steam generators, and one steam turbine. The facility is rated at 500 MW | NYSDEC | New PSD Permit | April 29, 2002.
Liberty Generating Project | Union County, NJ | Three Mitsubishi Heavy Industries MHI501G combustion turbines, three duct-fired heat recovery steam generators. Total power output is 1100 MW | NJDEP | New PSD Permit | June 5, 2002.
Wawayanda Energy Center | Wawayanda, NY | Two GE 7251-FB combustion turbines, two heat recovery steam generators, and one steam turbine generator. The facility is rated at 540 MW | NYSDEC | New PSD Permit | July 31, 2002.
PSEG Fossil LLC, Linden | Linden, NJ | Three GE 7FA combustion turbines, three duct-fired heat recovery steam generators. Total power output is 1186 MW | NJDEP | New PSD Permit | August 24, 2002.
Brookhaven Energy Project | Brookhaven, NY | Two Alstom Power GT-24 combustion turbine generators, a heat recovery steam generator and one steam electric generator. The facility is rated at 580 MW | NYSDEC | New PSD Permit | August 26, 2002.
Consolidated Edison Development | Ocean County, NJ | Original PSD permit issued on April 1, 1991 for three simple-cycle turbines each rated at 174.2 MW capacity. This modification entailed the addition of three new natural gas-fired fuel heaters each with a maximum heat input rating of 4.62 MMBTU/hr | NJDEP | PSD Permit Modification | September 4, 2002.
Astoria (Reliant) Generating Station (formerly Orion L.P.) | Astoria, NY | The applicant will repower the existing Astoria Generating Station (AGS). The repowering will include the installation of six combustion turbines, retirement of four existing boilers and reuse of existing equipment and infrastructure including two steam turbine generators. The repowering will increase AGS's electric generating capacity from 1,254 MW to 1,816 MW | NYSDEC | New PSD Permit | May 7, 2003.
Wheelabrator Gloucester Company RRF | Westville, NJ | To remove the carbon monoxide (CO) emission limits of 400 ppmdv @ 7% O2 and 45.5 lb/hr from the current PSD permit and add a CO limit of 11.3 lb/hr | NJDEP | PSD Permit Modification | June 26, 2003.
Merck & Co., Inc | Rahway, NJ | Boiler and Industrial Furnace modification project. Boilers No. 3, 5 and 9 each has a maximum rated gross heat input capacity of 99.5 MMBTU/hr. Existing boilers 3 and 9 will now be allowed to burn natural gas, fuel oil or waste solvent. These two boilers will be equipped with selective catalytic reduction (SCR). Boiler No. 5 will have low NOX burners to control NOX. Boilers No. 7 and 8 will be retired | NJDEP | PSD Permit Modification | September 19, 2003.
Valero Refining Company | Paulsboro, NJ | Modification of an existing major stationary source that triggered PSD for CO, PM and PM10. Petroleum refining facility with 75,000 barrels/day capacity | NJDEP | New PSD Permit | September 24, 2002.
Coastal Eagle Point Oil Co. | Westville, NJ | The facility increased the maximum oil feed rate to the fluid catalytic cracking unit from 55,000 barrels per day to 67,650 barrels per day. The facility also upgraded its existing Belco scrubber from EDV-5000 to EDV-6000 to improve control efficiency of PM10 and SO3/H2SO4 | NJDEP | PSD Permit Modification | October 11, 2003.
Cogen Technologies | Linden, NJ | Modification to allow for an increase in sulfuric acid mist emission rate from 9.0 lb/hr to 24.89 lb/hr during distillate oil combustion on the No. 6 turbine (181 MW). Annual sulfuric acid mist emission rates will increase from 3.53 tons/year to 6.44 tons/year | NJDEP | PSD Permit Modification | December 30, 2003.
HOVENSA | Saint Croix, VI | The existing PSD permit for GT No. 10 was modified to allow for an increase in utilization of the combustion turbine during natural gas firing while decreasing the quantity of oil combusted in the unit. HOVENSA is also reducing the amount of oil fired in the Vacuum Unit heaters. This project does not result in a significant net emission increase for any pollutant | EPA | PSD Permit Modification | January 22, 2004.
Corning Glass | Canton, NY | New and modified glass furnaces. The facility is subject to PSD for SO2 and NOX | NYSDEC | PSD Permit Modification | February 23, 2004.
Puerto Rico Electric and Power Authority—San Juan Combined Cycle Project | San Juan, PR | Two new Westinghouse 501 combustion turbines with a combined output of 476 MW combined cycle | EPA | New PSD Permit | April 1, 2004.
Nucor Steel Auburn, Inc | Auburn, NY | The existing PSD permit was modified to allow the melt shop production limit to increase from 600,000 tons/year to 665,000 tons/year of steel. In addition, a new 179 MMBTU/hour heat input reheat furnace will replace the existing one which is used with the rolling mill. This facility is subject to PSD for CO, NOX and SO2 | EPA | PSD Permit Modification | June 22, 2004.
AES Puerto Rico, L.P | Guayama, PR | The existing PSD permit was modified to update the PM10 condensible emissions based on stack test results; to increase the size of the emergency boiler feedwater pump diesel engine from 400 hp to 430 hp; to increase AES's annual usage limit of lime from 6,736 tons/year to 8,950 tons/year; to add the option of using trucks to haul ash offsite for on-island beneficial uses; to add a new category of startup that applies to startup following outages; to increase the number of turnovers in the startup fuel tank from 4 to 7 per year; and to change the cover of the inactive coal yard from grass to manufactured aggregate. As a result of these changes, there is only a trivial increase of 42 lb/year of PM10 emissions | EPA | PSD Administrative Permit Modification | August 10, 2004.
Virgin Islands Water and Power Authority—Unit 23 | St. Thomas, VI | A new 39 MW simple-cycle GE Frame 6 combustion turbine | EPA | New PSD Permit | September 8, 2004.
Bessicorp—Empire Development Co., LLC | Rensselaer, NY | A recycled newsprint manufacturing plant and a nominal 505 MW combined-cycle cogeneration plant. Two GE Frame 7FA combustion turbines, two heat recovery steam generators, a steam turbine, and an auxiliary boiler. 55 MW will be offered to the manufacturing plant, the remainder electricity will be offered on the merchant market | NYSDEC | New PSD Permit | September 23, 2004.
American Re-Fuel Company of Hempstead | Westbury, NY | PSD permit modification to increase the annual throughput of municipal waste at the facility from 914,325 tons/year to 975,000 tons/12-month rolling average | EPA | Revised PSD Permit | November 15, 2004.

This notice lists only the facilities that have received final PSD determinations. Anyone who wishes to review these determinations and related materials should contact the following offices:

EPA Actions: U.S. Environmental Protection Agency, Region 2 Office, Air Programs Branch—25th Floor, 290 Broadway, New York, New York 10007-1866.

NJDEP Actions: New Jersey Department of Environmental Protection, Division of Environmental Quality, Bureau of Engineering and Technology, 401 East State Street, Trenton, New Jersey 08625.

NYSDEC Actions: New York State Department of Environmental Conservation, Division of Air Resources, Bureau of Stationary Sources, 625 Broadway, Albany, New York 12233-3251.

If available pursuant to the Consolidated Permit Regulations (40 CFR part 124), judicial review of these determinations under section 307(b)(1) of the Clean Air Act (the Act) may be sought only by the filing of a petition for review in the United States Court of Appeals for the appropriate circuit within 60 days from the date on which these determinations are published in the Federal Register. Under section 307(b)(2) of the Act, these determinations shall not be subject to later judicial review in civil or criminal proceedings for enforcement.

Dated: February 11, 2005.
George Pavlou,
Acting Deputy Regional Administrator, Region 2.

[FR Doc. 05-3907 Filed 2-28-05; 8:45 am]

BILLING CODE 6560-50-P